DEPARTMENT OF EDUCATION

34 CFR Part 602

Regulatory Guidance Relating to the Criteria and Process for Initial Recognition of an Accrediting Agency

AGENCY: Office of Postsecondary Education, Department of Education.

ACTION: Interpretive rule.

SUMMARY: This interpretive rule sets forth the Department's interpretation of certain regulations at the Criteria for Recognition, and the Recognition Process, governing an accrediting agency's submission of a written application seeking initial recognition. In general, the provisions in this interpretive rule are designed to reduce unnecessary barriers to the recognition of accrediting agencies to promote competition in the market for assessing the quality of education or training offered by postsecondary institutions and programs.

DATES: February 27, 2026.

FOR FURTHER INFORMATION CONTACT: Elizabeth Daggett, Office of Postsecondary Education, U.S. Department of Education, 400 Maryland Avenue SW, Washington, DC 20202. Email: elizabeth.daggett@ed.gov.

If you use a telecommunications device for the deaf (TDD) or a text telephone (TTY), call the Federal Relay Service (FRS), toll free, at 1-800-877-8339.

SUPPLEMENTARY INFORMATION:

Full Text of Announcement

I. Background

For decades, the Department has utilized 34 CFR part 602 ('Part 602'), Subpart B, the Criteria for Recognition, to govern the eligibility requirements that an accrediting agency must meet before submitting a written application for initial recognition to the Secretary; and, after submitted, Part 602, Subpart C, the Recognition Process, to govern the procedures for the Department's processing, analysis, and decision to approve or deny an application seeking initial recognition. Since 1999, the Department has only recognized four (4) new accrediting agencies with the authority to establish institutional eligibility to participate in the Federal financial assistance programs authorized under title IV of the Higher Education Act of 1965, as amended, (”HEA”).¹ In fact, only seven institutional accrediting agencies collectively serve as gatekeepers for more than three thousand (3,000) U.S. institutions' eligibility for title IV, HEA programs.

¹ U.S. Dep't of Ed., Institutional Accrediting Agencies, www.ed.gov (September 17, 2025) available at https://www.ed.gov/laws-and-policy/higher-education-laws-and-policy/college-accreditation/institutional-accrediting-agencies. Specifically, the Midwifery Education Accreditation Council (2001), Commission on Massage Therapy Accreditation (2002), Commission on English Language Program Accreditation (2003)(though an institutional accreditor, CEA does not recognize institutions for Title IV program purposes), Middle State Commission on Secondary Schools, which has jurisdiction over vocational/technical institutions that offer non-degree, postsecondary education (2004), and the Association of Institutions of Jewish Studies (2015).

On April 23, 2025, President Donald J. Trump issued Executive Order 14279, Reforming Accreditation to Strengthen Higher Education, (“E.O. 14279”), which called for the Department to take action to reform the “dysfunctional accreditation system.” Specifically, E.O. 14279 directs the Department, among other things, to:

“(i) resume recognizing new accreditors to increase competition and accountability in promoting high-quality, high-value academic programs focused on student outcomes;”

“(v) increase the consistency, efficiency, and effectiveness of the accreditor recognition review process, including through the use of technology;”

“(vi) streamline the process for higher education institutions to change accreditors to ensure institutions are not forced to comply with standards that are antithetical to institutional values and mission;” and

“(vii) update the Accreditation Handbook to ensure that the accreditor recognition and reauthorization process is transparent, efficient, and not unduly burdensome.”

Upon the issuance of E.O. 14279, the Secretary of Education stated: “[E.O. 14279] will bring long-overdue change by accelerating the recognition of new accreditors and refocusing existing accreditors on helping member institutions improve the student outcomes families care most about. Instead of pushing schools to adopt a divisive DEI ideology, accreditors should be focused on helping schools improve graduation rates and graduates' performance in the labor market. The Department of Education will create a competitive marketplace of higher education accreditors, which will give colleges and universities incentives and support to focus on lowering college costs, fostering innovation, and delivering a high-quality postsecondary education.” ²

² U.S. Dep't of Ed., Secretary of Education Statements on President Trump's Education Executive Orders, www.ed.gov (April 23, 2025) available at https://www.ed.gov/about/news/press-release/secretary-of-education-statements-president-trumps-education-executive-orders. (Last Accessed February 23, 2026).

As the Department observed in the Preamble of the 2019 revisions to Part 602, “[w]e believe the dearth of new agencies shows that the barriers to entry for new accrediting agencies were so significant that they discouraged new entrants.” ³ A primary obstacle to effectuating E.O. 14279's mandate to recognize new accrediting agencies is the existing regulatory requirement that an agency seeking initial recognition from the Secretary must have “[c]onducted accrediting activities, including deciding whether to grant or deny accreditation or preaccreditation, for at least two years prior to seeking recognition.” 34 CFR 602.12(a). Coupled with the Department's current processing procedures under Part 602, Subpart C, the Recognition Process, an accrediting agency typically faces a two-to-three year period for the Department to evaluate and approve or deny the initial application for recognition, resulting in a cumulative four-to-five year timeframe for a new accrediting agency to be recognized by the Secretary. As a practical matter, this delay creates a significant barrier to entry for new institutional accrediting agencies as potential member-institutions are often unwilling or unable to simultaneously maintain accreditation with an already-recognized accrediting agency—which is necessary for continued participation in title IV and other Federal programs—and apply for and maintain accreditation with a new accrediting agency while that agency undergoes a four-to-five year initial recognition process.

³ Student Assistance General Provisions, The Secretary's Recognition of Accrediting Agencies, The Secretary's Recognition Procedures for State Agencies, 84 FR 58834, 58853 (Nov. 1, 2019) (codified at 34 CFR part 602).

The HEA requires that an accrediting agency seeking initial recognition by the Department “demonstrate the ability and the experience to operate as an accrediting agency or association within the State, region, or nationally, as appropriate.” 20 U.S.C. 1099b(a)(1). Indeed, under the HEA, an accrediting agency must demonstrate that it “consistently applies and enforces standards that respect the stated mission of the institution of higher education, including religious missions, and that ensure that the courses or programs of instruction, training, or study offered by the institution of higher education, including distance education or correspondence courses or programs, are of sufficient quality to achieve, for the duration of the accreditation period, the stated objective for which the courses or the programs are offered.” 20 U.S.C. 1099b(a)(4)(A). The Secretary “shall by regulation provide procedures for the recognition of accrediting agencies or associations and for the appeal of the Secretary's decisions.” 20 U.S.C. 1099b(o). Through 34 CFR 602.12(a), the Department adds additional barriers that are not directly required by the HEA, requiring an accreditation agency to “conduct accrediting activities for at least two years.” 34 CFR 602.12(a). The Department issues this interpretive rule to provide prospective accrediting agencies with additional clarity regarding the recognition process pursuant to E.O. 14279.⁴

⁴ This interpretive rule is also issued in pursuance of the President's Executive Order 14267 of April 9, 2025, Reducing Anti-Competitive Regulatory Barriers, in which the President directed Agency heads to “complete a review of all regulations subject to their rulemaking authority and identify those that: . . . (iv) create or facilitate licensure or accreditation requirements that unduly limit competition.”

II. 34 CFR, Part 602, Subpart B—The Criteria for Recognition

To further implement E.O. 14279, the Department provides the following interpretation related to certain regulatory requirements an accrediting agency must meet to submit a complete written application when seeking initial recognition under Part 602, Subpart B, specifically 34 CFR 602.12. Interpretations of specific regulatory provisions are provided below. The Department notes that many of the terms discussed in this interpretive rule have not been formally interpreted in the past in a published format. However, we are not breaking new ground with most of the terms discussed herein. Where the Department's interpretation departs from past interpretations, we note the novelty of it explicitly.

Accrediting Experience (34 CFR 602.12(a)(1)): The Department finds that the phrase “Granted accreditation or pre-accreditation” in 34 CFR 602.12(a)(1) means a decision by an accrediting agency to award accreditation or preaccreditation to an institution of higher education, a proprietary institution of higher education, or postsecondary vocational institution as those terms are defined at 34 CFR 600.4, 600.5, and 600.6, or to a program as defined at 34 CFR 602.3. The Department believes that the regulation is not ambiguous and that this is the only reasonable interpretation of the regulation because it aligns with the plain meaning of the regulation and is consistent with the longstanding interpretation and application of these terms.

Scope of Activities (34 CFR 602.12(a)(1)(ii)): The Department finds that the phrase “[C]overs the range of the specific degrees, certificates, institutions, and programs for which it seeks recognition” in 34 CFR 602.12(a)(1)(ii) means that an institution or program accredited by the accrediting agency is an institution or program that (a) operates within the scope of recognition sought by the agency and (b) offers one or more of the degrees, certificates, and programs for which the agency seeks to be recognized. The Department does not believe this regulatory provision is ambiguous and finds that the interpretation is the only reasonable reading because it hues closely to the actual text of the regulation in addition to its plain meaning.

Geographic Area (34 CFR 602.12(a)(1)(iii)): The Department finds that the phrase “In the geographic area” in 34 CFR 602.12(a)(1)(iii) means an institution or program must be located within the geographic area for which the accrediting agency is seeking recognition, to the extent that the agency intends to limit itself by geographic area. The Department does not believe this regulatory provision is ambiguous and finds that the interpretation is the only reasonable reading of the regulation because it is aligned with the exact words of the regulation.

Nature of Accrediting Activities (34 CFR 602.12(a)(2)): There is significant confusion regarding the implementation of 34 CFR 602.12(a)(2) and the types of accrediting activities that must be conducted for two years prior to the Secretary recognizing an accrediting agency. 34 CFR 602.12(a)(2) provides that the accrediting agency must conduct accrediting activities, which includes granting or denying accreditation or preaccreditation to an institution or program. These examples of accrediting activities are illustrative, not exhaustive, and the two-year time clock may start before the issuance of accreditation or preaccreditation. If the two-year time clock were only to start after an accrediting agency grants accreditation or preaccreditation, the requirement in 34 CFR 602.12(a)(1) would be redundant, as that regulation requires an agency to grant accreditation or preaccreditation to an institution or program prior to the Secretary recognizing the agency. The Department does not think that is a plausible reading of 34 CFR 602.12(a)(2), and as such, provides greater clarity regarding how we interpret the phrase “Conducted accrediting activities” as it exists under 34 CFR 602.12(a)(2).

The Department interprets “conducted accrediting activities” in 34 CFR 602.12(a)(2) as requiring a new accrediting agency to be formed as a corporation and have conducted accrediting activities. This means that the new agency has: (1) filed articles of incorporation in the relevant jurisdiction and the governing entity of the corporation has adopted bylaws,⁵ and (2) conducted at least one type of accrediting activity as included in the list below. After the accrediting agency satisfies (1) and (2), the two-year clock begins, meaning the Secretary may recognize the accrediting agency two years after such date. Nothing in the regulation precludes Department staff or the National Advisory Committee on Institutional Quality and Integrity (NACIQI) from making a recommendation regarding whether the Secretary should recognize the accrediting agency prior to the two-year clock being satisfied, but neither the senior Department official (SDO) nor the Secretary may make a final decision to recognize the accrediting agency prior to the agency having met the two-year requirement. This means that Department staff and NACIQI may prospectively recommend approval (or disapproval) in advance of the accrediting agency having satisfied the two-year requirement. For the purposes of 34 CFR 602.12(a)(2), accrediting activities include:

⁵ During the “pre-application period” (i.e., the period before a new accrediting agency submits a complete written application seeking initial recognition during which the agency takes formative actions to meet the requirements of Part 602, Subpart B), the Department intends to generally coordinate with a new accrediting agency seeking recognition, including (a) granting access to the E-recognition portal to allow the agency to draft narrative responses and collect supporting documentation required for a complete application and (b) scheduling and planning required observations under 34 CFR 602.32(d)(1), to facilitate the efficient submission of the agency's complete written application upon conclusion of the pre-application period.

(i) adopting accreditation standards consistent with 34 CFR 602.16;

(ii) granting or denying accreditation or preaccreditation consistent with 34 CFR 602.17-18;

(iii) conducting a site visit at an institution or program consistent with 34 CFR 602.17(c);

(iv) adopting operating procedures consistent with 34 CFR 602.23; or

(v) establishing a process to accept applications for accreditation consistent with 34 CFR 602.17.

The Department acknowledges that these provisions in 34 CFR 602.12(a)(2) are ambiguous but finds this construction of the regulation to be the most reasonable. Indeed, this interpretation ensures that accrediting agencies have at least two years of operational experience and have, at a minimum, granted preaccreditation or accreditation to at least one institution prior to recognition. By its own terms, 34 CFR 602.12(a)(2) requires nothing more.

Letters from Institutions in the Application Process (34 CFR 602.32(b)(2)): The Department finds that the phrase “Letters from at least one program or institution that will rely on the agency as its link to a Federal program upon recognition of the agency or intends to seek multiple accreditations which will allow it in the future to designate the agency as its Federal link” in 34 CFR 602.32(b)(2) means a letter from an institution or program in which the institution or program: (a) commits to consider designating the new agency as its Federal link to the HEA or other Federal programs once the agency is recognized; or (b) states its intention to seek multiple accreditations, one of which will be from the agency seeking initial recognition. The Department finds this regulation is not ambiguous and that this is the only reasonable interpretation of the regulation as it aligns closely to the actual words of the regulation and is consistent with the ordinary meaning of those words.

Analysis of Applications for Initial or Renewed Recognition (34 CFR 602.32(d)): To encourage accrediting agencies to seek recognition, the Department herein announces that it intends to complete the staff analysis determining whether or not the accrediting agency has met the basic eligibility requirements within 60 calendar days from the agency's submission of its application. Once Department staff have determined that the accrediting agency has met the basic eligibility requirements, the Department intends to complete the review of the agency's complete written petition within six (6) months but no more than 12 months. Nothing in this interpretive rule binds the Department to any specific timeline. Indeed, the regulations do not specifically call for a 60-calendar day review period. However, the Department believes it is important to give notice to prospective accrediting agencies regarding the likely length of the review process so they can plan accordingly.

Site Visit Observations and Review of Files (34 CFR 602.32(d)(1)(i)-(iii)): The Department finds the phrases “observations from site visits . . . to the agency” and “a file review at the agency of documents” mean observations of accrediting activities conducted and review of files maintained, respectively, in the ordinary course of the agency's business with its existing portfolio of member institutions or programs. “Observations from site visits . . . to one or more of the institutions or programs the agency accredits or preaccredits” means that the Department will not require the agency to work with any institution or program other than the institution(s) or program(s) accredited or preaccredited by the agency. The Department finds this regulation is not ambiguous. The Department believes that this is the only reasonable interpretation of the regulation as it would not make sense to take, nor does the regulation contemplate, a broader reading where accreditors must conduct site visits outside of the ordinary course of business.

Failure to Demonstrate Compliance (34 CFR 602.32(g)): The Department finds the phrase “[D]etermines that the agency fails to demonstrate compliance with the basic eligibility requirements” means that the agency is unable to demonstrate full or substantial compliance with one or more requirements of 34 CFR 602.10 through 602.15 within the period of the Department's analysis of its application. The Department finds this regulation is not ambiguous. The Department finds this to be the only reasonable interpretation because the phrase “basic eligibility requirements” is not defined and the only other eligibility requirements in Part 602, relate to demonstrating full or substantial compliance with the recognition criteria. Because there are no other eligibility requirements in Part 602, this interpretation is the only logical construction that is consistent with the broader construction of the regulation.

Findings of Full, Substantial, or Noncompliance with Recognition Criteria (34 CFR 602.32(h)(4)(i)): The Department interprets the phrase “indicating that the agency is in full compliance, substantial compliance, or noncompliance with each of the criteria for recognition” to mean that the Department's final staff analysis of the agency's complete written application seeking initial recognition submitted to NACIQI may include findings of full compliance, substantial compliance, or noncompliance with each of the criteria for recognition. For any findings of noncompliance, the Department reserves the right to deny recognition to the accrediting agency. The Department finds this regulation is not ambiguous and that this is the only reasonable interpretation of the regulation because it aligns with the ordinary meaning of the words in the regulation.

III. Effective Date

Interpretive rules cannot have effective dates. Rather, this interpretive rule informs the public of the Department's interpretation of the law. See Guedes v. Bureau of Alcohol, Tobacco, Firearms & Explosives, 920 F.3d 1, 20 (D.C. Cir. 2019) (holding that an interpretive rule cannot have an effective date and is instead an interpretation of how the law should be interpreted, past and present). This interpretation represents the Department's current position on the issues discussed herein and may be referenced when administering 34 CFR part 602, but nothing in this interpretive rule is binding upon the Department, recognized accrediting agencies, accrediting agencies seeking recognition, or any other parties.

Accessible Format: On request to the program contact listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Authority: Section 496 of the HEA of 1965, as amended. 20 U.S.C. 1099b.

David Barker,
Assistant Secretary for Postsecondary Education.

[FR Doc. 2026-03953 Filed 2-26-26; 8:45 am]

BILLING CODE 4000-01-P